ENVIRONMENTAL PROTECTION AGENCY

40 CFR Part 52

[EPA-R06-OAR-2013-0167; FRL-9958-60-Region 6]

Approval and Promulgation of Implementation Plans; Louisiana; Volatile Organic Compounds Rule Revision and Stage II Vapor Recovery

AGENCY: Environmental Protection Agency (EPA).

ACTION: Direct final rule.

SUMMARY: Under the Federal Clean Air Act (CAA or the Act) the Environmental Protection Agency (EPA) is approving the revisions submitted by the State of Louisiana controlling emissions of volatile organic compounds (VOCs) and changes to the Stage II gasoline vapor recovery rule as part of the Louisiana State Implementation Plan (SIP).

DATES: This rule is effective on May 22, 2017 without further notice, unless the EPA receives relevant adverse comment by April 24, 2017. If the EPA receives such comment, the EPA will publish a timely withdrawal in the Federal Register informing the public that this rule will not take effect.

ADDRESSES: Submit comments, identified by Docket No. EPA-R06-OAR-2013-0167, at http://www.regulations.gov or via email to donaldson.tracie@epa.gov. Follow the online instructions for submitting comments. Once submitted, the EPA may publish any comment received to its public docket. Comments cannot be edited or removed from www.regulations.gov. Do not submit electronically any information considered to be Confidential Business Information (CBI) or other information whose disclosure is restricted by statute. Multimedia submissions (audio, video, etc.) must be accompanied by a written comment. The written comment will be considered the official comment with multimedia submissions and should include all discussion points desired. The EPA will generally not consider comments or their contents submitted outside of the primary submission (i.e. on the web, cloud, or other file sharing systems). For additional information on submitting comments, please visit http://www2.epa.gov/dockets/commenting-epa-dockets.

Docket: The index to the docket for this action is available electronically at www.regulations.gov and in hard copy at the EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Tracie Donaldson, (214) 665-6633; donaldson.tracie@epa.gov. To inspect the hard copy materials, please schedule an appointment with Tracie Donaldson or Mr. Bill Deese at 214-665-7253.

SUPPLEMENTARY INFORMATION: Throughout this document, “we,” “our,” or “us” each mean “the EPA.”

I. Background

A. CAA and SIPs

Section 110 of the CAA requires states to develop and submit to the EPA a SIP to ensure that state air quality meets National Ambient Air Quality Standards (NAAQS). The NAAQS currently address six criteria pollutants: carbon monoxide, nitrogen dioxide, ozone, lead, particulate matter, and sulfur dioxide. Each federally-approved SIP protects air quality primarily by addressing air pollution at its point of origin through air pollution regulations and control strategies. The EPA-approved SIP provisions and control strategies are federally enforceable. States revise the SIP as needed and submit revisions to the EPA for review and approval.

B. Why do we regulate VOCs?

Volatile Organic Compound is a term used to describe a class of chemicals that react in the atmosphere in the presence of sunlight to form ozone. Sources include vehicle exhaust, gasoline vapors, oil-based paints and industrial operations. A regulatory definition of Volatile Organic Compounds can be found at 40 CFR 51.100(s). The definition in Louisiana can be found in LAC 33:III, Chapter 1, section 111. Oxygen in the atmosphere reacts with VOCs and Oxides of Nitrogen to form ozone, a key component of urban smog. Inhaling even low levels of ozone can trigger a variety of health problems including chest pains, coughing, nausea, throat irritation, and congestion. It also can worsen bronchitis and asthma. Exposure to ozone can also reduce lung capacity in healthy adults.

C. Louisiana Submittals

On July 5, 2011, the EPA approved numerous revisions¹ to the Louisiana SIP, which spanned the years 1996 to 2006. The EPA is now approving two additional SIP revisions. First, on August 29, 2013, the State of Louisiana through the Louisiana Department of Environmental Quality (LDEQ) submitted the VOC Rule revisions, which incorporated revisions to the LAC during the years 2008 through 2010. These VOC revisions included changes to the Stage II vapor recovery rules. Second, on November 3, 2014, the State of Louisiana submitted the Permit Rule revisions that integrated revisions to the LAC during the years 2011 through 2013.

¹ See 76 FR 38977

II. The EPA's Evaluation

As detailed in the Technical Support Document (TSD) accompanying this action, the LDEQ submitted SIP revisions to the VOC regulations found in LAC 33:III, chapters 1, 21, 22 and 25 which are addressed in this action.

The August 29, 2013 Volatile Organic Compounds Rule Revisions promulgated during 2008-2010. LAC 33:III chapters 1: Section 111, 21: Sections 2103, 2107, 2108, 2121, 2125, 2131, 2132, 2145, 2147, 22: Section 2201 and 25: Sections 2511, 2521, 2531 are addressed in this approval. The revision to section 523 was addressed previously (81 FR 51342).

The November 3, 2014 Permit Rule SIP Revisions were promulgated during 2011-2013. LAC 33:III chapter 21: Section 2132 is addressed in this approval. The submittal also included revisions to regulations in LAC 33:III chapters 2, 3, 5, and 6 but those revisions will not be acted upon here. The chapter 2 revisions were withdrawn in a chapter 2 “repeal and replace” submission dated February 23, 2016. Revisions to chapter 5, sections 525, 527 and 529 were withdrawn by Louisiana on July 14, 2016. Revisions to sections 317 and 319 will be addressed at a later date. The remaining sections have been addressed in a separate Federal Register document (81 FR 51341).

Please refer to Table 1 for a list of subchapters, divisions, and key sections proposed for revision in the Louisiana SIP by the LDEQ.

Table 1—Revisions for Approval
Section | Title/subject | State adoption date
LAC Title 33. Environmental Quality Part III. Air
Chapter 1 General Provisions
111 | Definitions | 1/20/2008
Chapter 21 Control of Emission of Organic Compounds
Subchapter A. General
2103 | Storage of Volatile Organic Compounds | 10/20/2010
2107 | Volatile Organic Compounds—Loading | 9/20/2008
2108 | Marine Vapor Recovery | 9/20/2008
2121 | Fugitive Emission Control | 1/20/2008
Subchapter C Solvent Degreasers
2125 | Solvent Degreasers | 1/20/2008
Subchapter F Gasoline Handling
2131 | Filling of Gasoline Storage Vessels | 7/20/2010
2132 | Stage II Vapor Recovery Systems for Control of Vehicle Refueling Emissions at Gasoline Dispensing Facilities | 11/20/2008 & 4/20/2011
Subchapter I Pharmaceutical Manufacturing Facilities
2145 | Pharmaceutical Manufacturing Facilities | 1/20/2008
Subchapter J Limiting Volatile Organic Compound (VOC) Emissions from Reactor Processes and Distillation Operations in the Synthetic Organic Chemical Manufacturing Industry (SOCMI)
2147 | Limiting VOC Emissions from SOCMI Reactor Processes and Distillation Operations | 1/20/2008
Chapter 22 Control of Emissions of Nitrogen Oxides (NOX)
2201 | Affected Facilities in the Baton Rouge Nonattainment Area and the Region of Influence | 1/20/2008
Chapter 25 Miscellaneous Incineration Rules
2511 | Standards of Performance for Biomedical Waste Incinerators | 1/20/2008
2521 | Refuse Incinerators | 1/20/2008
2531 | Standards of Performance for Crematories | 1/20/2008

The revisions to sections 111, 2121, 2125, 2131, 2145, 2147 and 2201 are all limited to outline/numbering changes and wording corrections. These revisions are ministerial in nature and are approvable.

The revisions to sections 2107, 2108, 2511, 2521 and 2531 concern notifications to the department and due dates for reporting. These changes improve the enforceability of the regulations and are therefore, approvable.

Section 2132: Stage II Vapor Recovery

The revisions to section 2132 include numbering/outline and wording corrections as well as provide a Stage II vapor recovery exemption for facilities that exclusively fuel or refuel vehicles with onboard refueling vapor recovery (ORVR). The Louisiana SIP requires Stage II vapor recovery at gasoline dispensing facilities in Ascension, East Baton Rouge, Iberville, Livingston, Pointe Coupee, and West Baton Rouge parishes. Background information on Stage II vapor recovery is provided in the TSD. The submitted revision would provide an exemption from Stage II vapor recovery requirements for facilities used exclusively for the initial fueling and/or refueling of vehicles equipped with onboard refueling vapor recovery (ORVR) equipment. The exact wording of the revision is: “Exemption. Any segregated motor vehicle fuel dispensing system used exclusively for the fueling and/or refueling of vehicles equipped with onboard refueling vapor recovery equipment (e.g., initial fueling of new vehicles at automobile assembly plants, refueling of rental cars at rental car facilities, and refueling of flexible fuel vehicles at E85 dispensing pumps), located at a facility subject to this regulation, is exempt from the requirements in Paragraphs B.5 and 6 of this Section.” This submitted rule means that no facility fueling/refueling vehicles that are not 100% ORVR is covered by the rule. While LDEQ is not asking to remove Stage II requirements for these parishes it does revise the Stage II requirements for a certain portion of the fleet.

Under CAA section 110(l), Stage II vapor recovery programs cannot be revised or removed unless it is demonstrated that revision or removal of such program from the SIP would not interfere with any applicable requirement concerning attainment and reasonable further progress or any other applicable requirement under the CAA. While Louisiana's submittal is not requesting the withdrawal of its Stage II rule for these parishes, this SIP revision is requesting revisions to Louisiana's Stage II requirements, and thus this revision must be shown to satisfy 110(l) of the CAA.

This SIP revision is approvable because all the vehicles whose initial fueling and refueling is being excluded from Stage II vapor recovery rules are equipped with ORVR, an equivalent vapor recovery system. In order for a system to constitute Stage II and ORVR, the systems must demonstrate a 95 percent or greater VOC control efficiency; thus, there will be no increase in emissions as a result of this SIP revision. During the phase-in of ORVR controls, which began in 1997, Stage II vapor recovery has provided VOC reductions in ozone nonattainment areas and certain attainment areas of the OTR. Congress recognized that ORVR and Stage II would eventually become largely redundant technologies, and provided authority to the EPA to allow states to remove Stage II from their SIPs after EPA finds that ORVR is in widespread use.

Not only are there no increases in VOC emissions from this rule, but the parishes are in attainment of the 1-hour, 1997, and 2008 ozone standards. On March 26, 2009, EPA proposed a determination of attainment of the 1-hour ozone standard for the BR area comprised of the Ascension, East Baton Rouge, Iberville, Livingston, and West Baton Rouge parishes. A final determination was published in the Federal Register on February 10, 2010 (75 FR 6570). On June 25, 2010, EPA proposed a determination of attainment of the 1997 8-Hour Ozone standard for the BR area (75 FR 36316). A final determination was published in the Federal Register on September 9, 2010 (75 FR 54778). EPA proposed to redesignate the BR area to attainment on August 30, 2011 (76 FR 53852) and published approval of the redesignation to attainment of the 1997 8-hour ozone NAAQS on November 11, 2011 (76 FR 74000). On November 4, 2016, we proposed to redesignate the BR area to attainment for the 2008 8-hour ozone NAAQS (81 FR 76891) and we finalized the redesignation to attainment on December 27, 2016 (81 FR 95051). Under the 1990 CAA Amendments, Pointe Coupee Parish was included as part of the BR nonattainment area, and continued to be designated nonattainment for the 1-hour ozone NAAQS by operation of law. EPA approved Louisiana's request to remove Pointe Coupee from the BR area and redesignated Pointe Coupee Parish to attainment for the 1-hour ozone standard on January 6, 1997 (62 FR 648). Pointe Coupee Parish was designated as unclassifiable/attainment for the 1997 ozone standard on April 30, 2004, and designated as unclassifiable/attainment for the 2008 ozone standard on May 21, 2012 (77 FR 30088).

The rule does not increase VOC emissions, it does not apply to facilities fueling/refueling vehicles with less than 100% ORVR, and all the affected parishes are in attainment for the 1-hour, 1997, and 2008 ozone standards; therefore, we find that these revisions will not interfere with any applicable requirement concerning attainment and reasonable further progress or any other applicable requirement under the CAA.

This revision is consistent with our guidance memo dated December 12, 2006,² and EPA's action in other similar situations. See 71 FR 52464 (approving removal of Stage II vapor recovery systems at Ford's Chicago Assembly Plant); and 75 FR 74624 (approving exemption of facilities used exclusively to fuel/refuel ORVR equipped vehicles in Georgia); 78 FR 58884 (approving exemption of Enterprise rental car facility in Kentucky).

² “Removal of Stage II Vapor Recovery in Situations Where Widespread Use of Onboard Refueling Vapor Recovery is Demonstrated,” Memorandum from Stephen D. Page and Margo Tsirigotis Oge, December 12, 2006.

The ORVR systems are considered to be as efficient as Stage II vapor recovery equipment in reducing emissions from fueling and refueling. In relevant part, the Page Memorandum states that if a SIP revision demonstrates that 95 percent of the new vehicles fueled at an automobile assembly plant are equipped with ORVR, and that this level of ORVR use would not decrease, then EPA can determine that widespread use of ORVR has been achieved for the fleet of motor vehicles that are fueled at that facility. Page Memorandum, page 2. The CAA allows EPA to revise or waive the Section 182(b)(3) Stage II gasoline vapor recovery rules, after determining ORVR emissions control systems are in widespread use throughout the motor vehicle fleet. Louisiana revised its Stage II vapor recovery rule to exclude initial fueling and refueling of motor vehicles 100% equipped with ORVR.

Under Louisiana's changes, the only facilities excluded from Stage II vapor recovery rules are those which fuel/refuel 100% vehicles that are equipped with ORVR. Because only facilities that fuel/refuel 100% ORVR equipped vehicles are subject to Louisiana's rule changes, the criteria for widespread use for this fleet of vehicles is achieved. Furthermore, EPA made the determination on May 16, 2012 that there was widespread use throughout the country (77 FR 28772). A detailed discussion of this guidance and the 100(l) demonstration is provided in the TSD. A copy of this memo is included in the docket. This revision is approvable.

Section 2103: Storage of Volatile Organic Compounds

The submitted revisions to section 2103 provide an exemption from the “submerged fill pipe” provisions for a limited number of tanks at a specific facility. These tanks contain a highly corrosive material and the submerged fill pipe must be higher than 6 inches from the bottom of the tank for safety considerations. Please see our detailed evaluation and the RACT determination beginning on page 5 of the TSD. The filling of these tanks represents a very low volume of VOC emissions due to the presence of vapor loss control devices and will not have a significant effect or interfere with maintenance or attainment of any NAAQS.³

³ On May 4, 2016, EPA published a final rule entitled “Determinations of Attainment by the Attainment Date, Extensions of the Attainment Date, and Reclassification of Several Areas Classified as Marginal for the 2008 Ozone National Ambient Air Quality Standards” where the Agency determined that the BRNA had attained the 2008 8-hour ozone NAAQS, by the applicable attainment date of July 20, 2015, based on 2012-2014 monitoring data. See 81 FR 26697.

A complete summary is referenced in the Technical Support Document (TSD), “Louisiana Administrative Code (LAC) Title 33 Environmental Quality Part III—Air,” a copy of which is posted in the docket of this action.

III. Final Action

We are approving rule revisions to LAC 33:III for chapters 1, 21, 22 and 25 for the 2008-2010 VOC Rule revisions submittal and chapter 21 for the 2011-2013 Permit Rule revisions submittal into the Louisiana SIP as they appear in Table 1 above.

The EPA is publishing this rule without prior proposal because we view this as a non-controversial amendment and anticipate no adverse comments. However, in the proposed rules section of this Federal Register publication, we are publishing a separate document that will serve as the proposal to approve the SIP revision if relevant adverse comments are received. This rule will be effective on May 22, 2017 without further notice unless we receive relevant adverse comment by April 24, 2017. If we receive relevant adverse comments, we will publish a timely withdrawal in the Federal Register informing the public that the rule will not take effect. We will address all public comments in a subsequent final rule based on the proposed rule. We will not institute a second comment period on this action. Any parties interested in commenting must do so now. Please note that if we receive relevant adverse comment on an amendment, paragraph, or section of this rule and if that provision may be severed from the remainder of the rule, we may adopt as final those provisions of the rule that are not the subject of an adverse comment.

We are also making a ministerial correction to the table in 40 CFR 52.970(c) to reflect accurately the inclusion of sections 1101 and 1109 within Chapter 11, which addresses Control of Emissions from Smoke in the EPA-approved SIP on March 3, 1989 (54 FR 9795).

IV. Incorporation by Reference

In this action, the EPA is including in a final rule regulatory text that includes incorporation by reference. In accordance with the requirements of 1 CFR 51.5, the EPA is incorporating by reference revisions to the Louisiana regulations as described above. The EPA has made, and will continue to make, these documents generally available electronically through www.regulations.gov and/or in hard copy at the EPA Region 6 office.

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Ozone, Reporting and recordkeeping requirements, Volatile organic compounds.

Samuel Coleman was designated the Acting Regional Administrator on January 20, 2017 through the order of succession outlined in Regional Order R6-1110.1, a copy of which is included in the docket for this action.

Dated: February 6, 2017.
Samuel Coleman,
Acting Regional Administrator, Region 6.

40 CFR part 52 is amended as follows:

PART 52—APPROVAL AND PROMULGATION OF IMPLEMENTATION PLANS

1. The authority citation for part 52 continues to read as follows:

Authority: 42 U.S.C. 7401 et seq.

Subpart T—Louisiana

2. In § 52.970(c), the table titled “EPA Approved Regulations in the Louisiana SIP” is amended by:

a. Removing the entries for Sections 701.C and 709.A. and the first entry for Section 711 under Chapter 7; the entries for Sections 919-919.A.6, 919.B.1, 919.B.2-919.B.5.g.v, 919.C, and 919.D.-F under Chapter 9; and Section 2103.A-2103.B, 2103.C-2103.D.4, 2103.D.4.a, 2103.D.4.b.-2103.D.4.d, 2103.G.1-2103.G.2, 2103.G.3-2103.G.5, 2103.H.2.a.-d, 2103.H.3, 2103.I.6, 2103.I.7, 2107.E.1.-2, 2108.A, 2108.C.2.-2108.C.3, 2108.D.4, 2108.E.1.a.i.-ii. and E.1.b, 2108.E.2, 2108.E.3. and E.5, 2108.F.1 under Chapter 21, Subchapter A.

b. Revising the entries for Sections 111, 701, 703, 705, 707, 709, 711, and 2121.A; the entries under Subchapters C, F, I, and J of Chapter 21; and the entries under Chapters 22 and 25;

c. Adding new entries in sequential order for Sections 1101, 1109, 2103, 2107, and 2108.

The revisions and additions read as follows:

§ 52.970 Identification of plan.

* * * * *

(c) * * *

EPA Approved Louisiana Regulations in the Louisiana SIP
State citation | Title/subject | State approval date | EPA approval date | Comments
* * * * * * *
Chapter 1—General Provisions
* * * * * * *
Section 111 | Definitions | 1/20/2008 | 3/23/2017 [Insert Federal Register citation] |
* * * * * * *
Chapter 7—Ambient Air Quality
Section 701 | Purpose | 03/20/08 | 01/28/16, 81 FR 4891 |
Section 703 | Scope | 03/20/08 | 01/28/16, 81 FR 4891 |
Section 705 | Standards: Description of Ambient Air Quality Standards | Dec. 1987, LR13:741 | 03/08/89, 54 FR 09795 | Ref 52.999(c)(49).
Section 707 | Degradation of Ambient Air Having Higher Quality than Set Forth in these Sections Restricted | Dec. 1987, LR13:741 | 03/08/89, 54 FR 09795 | Ref 52.999(c)(49).
Section 709 | Measurement of Concentrations PM10, SO2, CO, Atmospheric Oxidants, NOX, and Pb | 9/20/2006 | 7/05/2011, 76 FR 38977 | Ref 52.999(c)(50).
Section 711 | Tables 1, 1a, and 2—Air Quality | 9/20/2006 | 7/05/2011, 76 FR 38977 | PM2.5 and PM10 standards.
* * * * * * *
Chapter 11—Control of Emissions From Smoke
Section 1101 | Control of Air Pollution from Smoke: Purpose and Control of Smoke | Dec. 1987, LR13:741 | 03/08/89, 54 FR 09795 | Ref 52.999(c)(49).
* * * * * * *
Section 1109 | Control of Air Pollution from Outdoor Burning | Dec. 1987, LR13:741 | 03/08/89, 54 FR 09795 | Ref 52.999(c)(49).
* * * * * * *
Chapter 21—Control of Emissions of Organic Compounds
* * * * * * *
Section 2103 | Storage of Volatile Organic Compounds | 10/20/2010 | 3/23/2017 [Insert Federal Register citation] | 2103.E.3 is not included in the SIP.
* * * * * * *
Section 2107 | Volatile Organic Compounds—Loading | 9/20/2008 | 3/23/2017 [Insert Federal Register citation] | E.1.b., E.1.d. and E.1.e. have not been submitted for approval into the SIP.
Section 2108 | Marine Vapor Recovery | 9/20/2008 | 3/23/2017 [Insert Federal Register citation] |
* * * * * * *
Section 2121.A | Fugitive Emission Control | 1/20/2008 | 3/23/2017 [Insert Federal Register citation] |
* * * * * * *
Subchapter C Solvent Degreasers
Section 2125 | Solvent Degreasers | 1/20/2008 | 3/23/2017 [Insert Federal Register citation] |
* * * * * * *
Subchapter F Gasoline Handling
Section 2131 | Filling of Gasoline Storage Vessels | 7/20/2010 | 3/23/2017 [Insert Federal Register citation] |
Section 2132 | Stage II Vapor Recovery Systems for Control of Vehicle Refueling Emissions at Gasoline Dispensing Facilities | 4/20/2011 | 3/23/2017 [Insert Federal Register citation] | This rule is approved for fueling/refueling of only 100% ORVR vehicles.
* * * * * * *
Subchapter I Pharmaceutical Manufacturing Facilities
Section 2145 | Pharmaceutical Manufacturing Facilities | 1/20/2008 | 3/23/2017 [Insert Federal Register citation] |
Subchapter J Limiting Volatile Organic Compound (VOC) Emissions from Reactor Processes and Distillation Operations in the Synthetic Organic Chemical Manufacturing Industry (SOCMI)
Section 2147 | Limiting VOC Emissions from SOCMI Reactor Processes and Distillation Operations | 1/20/2008 | 3/23/2017 [Insert Federal Register citation] |
* * * * * * *
Chapter 22—Control of Emissions of Nitrogen Oxides (NOX)
Section 2201 | Affected Facilities in the Baton Rouge Nonattainment Area and the Region of Influence | 1/20/2008 | 3/23/2017 [Insert Federal Register citation] |
Section 2202 | Contingency Plan | 1/20/2010 | 11/30/11, 76 FR 74000 | Section 2202 approved in the Louisiana Register January 20, 2010 (LR 36:63).
* * * * * * *
Chapter 25 Miscellaneous Incinerator Rules
Section 2511 | Standards of Performance for Biomedical Waste Incinerators | 1/20/2008 | 3/23/2017 [Insert Federal Register citation] |
Section 2521 | Refuse Incinerators | 1/20/2008 | 3/23/2017 [Insert Federal Register citation] |
Section 2531 | Standards of Performance for Crematories | 1/20/2008 | 3/23/2017 [Insert Federal Register citation] |
* * * * * * *

[FR Doc. 2017-04931 Filed 3-22-17; 8:45 am]

BILLING CODE 6560-50-P